DEPARTMENT OF HEALTH AND HUMAN SERVICES

Centers for Disease Control and Prevention

[60Day-04-40]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Seleda Perryman, CDC Assistant Reports Clearance Officer, 1600 Clifton Road, MS-E11, Atlanta, GA 30333. Written comments should be received within 60 days of this notice.

Proposed Project

Integrating HIV and Other Prevention Services into Reproductive Health and Other Community Settings On-Line Performance Reporting System—New—National Center for Chronic Disease Prevention and Health Promotion (NCCDPHP), Centers for Disease Control and Prevention (CDC).

Background

Integrating HIV and Other Prevention Services into Reproductive Health and Other Community Settings is a training project of CDC, National Center for Chronic Disease Prevention and Health Promotion, the grantees, and their ten family planning regional training centers. The grantees must submit project reports twice a year (each of whom corresponds to one of the ten federal public health regions) on their training-centered intervention activities. CDC guidelines also obligate grantees under cooperative agreements to provide performance reporting. To facilitate grantee compliance with performance reporting requirements, a secure online performance reporting system has been designed to capture training activity information—an indicator of consistent and measurable project progress. Each grantee enters and edits their own training activity data and generates project evaluation documents and semi-annual reports on the Internet. CDC will use the reported data to assess project progress towards achieving:

• Measurable information about grantees' prevention training activities.

• Prevention training needs, complexity, diversity, and availability.

• Comparisons between the trained population and the general population of the local area.

• Special cultural and regional needs.

• Complexity of the trained workforce.

• Grantees access to on-line data reports.

Grantees' semi-annual performance reports are due March 31 and September 30 during each year of the 5-year cooperative agreement. Using the on-line system, grantees enter data during each reporting period. The information obtained from the online performance reporting system will help CDC meet its evaluation objectives. No proprietary items or sensitive information will be collected. There is no cost to respondents except their time.

Respondents | Number of respondents | Number of responses per respondent | Avg. burden per response (in hrs.) | Total burden (in hrs.)
Region 1 Grantee | 1 | 2 | 1 | 2
Region 2 Grantee | 1 | 2 | 1 | 2
Region 3 Grantee | 1 | 2 | 1 | 2
Region 4 Grantee | 1 | 2 | 1 | 2
Region 5 Grantee | 1 | 2 | 1 | 2
Region 6 Grantee | 1 | 2 | 1 | 2
Region 7 Grantee | 1 | 2 | 1 | 2
Region 8 Grantee | 1 | 2 | 1 | 2
Region 9 Grantee | 1 | 2 | 1 | 2
Region 10 Grantee | 1 | 2 | 1 | 2
Total |  |  |  | 20

Dated: April 9, 2004.
Diane Allen,
Acting Director, Management Analysis and Services Office, Centers for Disease Control and Prevention.

[FR Doc. 04-8755 Filed 4-16-04; 8:45 am]

BILLING CODE 4163-18-P